DEPARTMENT OF THE INTERIOR

National Park Service

National Park System Advisory Board; Meeting

AGENCY: National Park Service, Interior.

ACTION: Notice of meeting.

Notice is hereby given in accordance with the Federal Advisory Committee Act, 5 U.S.C. Appendix, that the National Park System Advisory Board will meet January 12-13, 2006, in Philadelphia, Pennsylvania. On January 12, the Board will tour Independence National Historical Park and will be briefed regarding environmental, education and partnership programs. The Board will convene its business meeting on January 13, 8:30 a.m., EST, in the Visitor Center at Independence National Historical Park, 1 North Independence Mall West, 6th and Market Streets, Philadelphia, PA, telephone 215-597-7120. The meeting will be adjourned at 5 p.m. The Board will be addressed by National Park Service Director Fran Mainella and will receive the reports of its Director's Council, Education Committee, National Landmarks Committee, Committee on Health and Recreation, National Parks Science Committee, Committee on Federal Historic Rehabilitation Tax Credit, and Partnerships Committee. The Board also will be briefed regarding Preserve America and the 106 Compliance Review.

Other officials of the National Park Service and the Department of the Interior may address the Board, and other miscellaneous topics and reports may be covered.

The order of the agenda may be changed, if necessary, to accommodate travel schedules or for other reasons.

The Board meeting will be open to the public. Space and facilities to accommodate the public are limited and attendees will be accommodated on a first-come basis. Anyone may file with the Board a written statement concerning matters to be discussed. The Board also may permit attendees to address the Board, but may restrict the length of the presentations, as necessary to allow the Board to complete its agenda within the allotted time.

Anyone who wishes further information concerning the meeting, or who wishes to submit a written statement, may contact Mr. Loran Fraser, Chief, Office of Policy, National Park Service; 1849 C Street, NW., Room 7250; Washington, DC 20240; telephone 202-208-7456.

Draft minutes of the meeting will be available for public inspection about 12 weeks after the meeting, in room 7252, Main Interior Building, 1849 C Street, NW., Washington, DC.

Dated: December 19, 2005.
Bernard Fagan,
Deputy Chief, Office of Policy.

[FR Doc. E5-7891 Filed 12-27-05; 8:45 am]

BILLING CODE 4312-52-P